OFFICE OF SPECIAL COUNSEL

Appointment of Member to Agency Performance Review Board

AGENCY: Office of Special Counsel (OSC).

ACTION: Notice.

Authority: 5 U.S.C. § 4314(c)(4).

SUMMARY: This notice announces the appointment of the following individual to serve as a new member of the Performance Review Board previously established by the OSC pursuant to 5 U.S.C. 4314(c)(2): Steven J. Mandel, Associate Solicitor, Fair Labor Standards Division, Office of the Solicitor, U.S. Department of Labor.

FOR FURTHER INFORMATION, CONTACT: M. Marie Glover, Director of Personnel, Management Division, U.S. Office of Special Counsel, 1730 M Street, NW, Washington, DC 20036-4505, telephone (202) 653-8964.

Dated: February 1, 2000.
Elaine Kaplan,
Special Counsel.

[FR Doc. 00-2634 Filed 2-4-00; 8:45 am]

BILLING CODE 7405-01-U